TENNESSEE VALLEY AUTHORITY

Meeting of the Regional Resource Stewardship Council

AGENCY: Tennessee Valley Authority (TVA).

ACTION: Notice of meeting.

SUMMARY: The TVA Regional Resource Stewardship Council (RRSC) will hold a meeting on Wednesday and Thursday, April 3-4, 2019, to consider various matters. The RRSC was established to advise TVA on its natural resources and stewardship activities and the priority to be placed among competing objectives and values. Notice of this meeting is given under the Federal Advisory Committee Act (FACA).

DATES: The meeting will be held April 3-4, 2019. Wednesday's meeting will run from 8:30 a.m. to 11:45 a.m., CDT, and Thursday's meeting will run from 8:30 a.m. to 11:30 a.m., CDT.

ADDRESSES: The meeting will be held at the Kentucky Dam Resort Conference Center, 113 Administrative Drive, Gilbertsville, Kentucky. An individual requiring special accommodation for a disability should let the contact below know at least a week in advance.

FOR FURTHER INFORMATION CONTACT: Cathy Coffey, 865-632-4494, ccoffey@tva.gov.

SUPPLEMENTARY INFORMATION: The meeting agenda includes the following items:

1. Introductions

2. Updates on recent navigation and flood control challenges

3. Natural Resources Stewardship activities

4. Presentation on upcoming bank erosion study

5. Presentation on Asian Carp management plan

6. Public Comments

7. Council Discussion and Advice

The meeting is open to the public. Comments from the public will be accepted Thursday, April 4 at 9:30 a.m., CDT, for 60 minutes. Registration to speak is from 8:00 a.m. to 9:00 a.m., CDT, at the door. TVA will set oral comment time limits once registered. Handout materials should be limited to one printed page. Written comments may be sent to the RRSC at any time through links on TVA's website at www.tva.com/rrsc or by mailing to the Regional Resource Stewardship Council, Tennessee Valley Authority, 400 West Summit Hill Drive, WT 9D, Knoxville, Tennessee 37902.

Dated: March 11, 2019.
Joseph J. Hoagland,
Vice President, Enterprise Relations and Innovation, Tennessee Valley Authority.

[FR Doc. 2019-04903 Filed 3-15-19; 8:45 am]

BILLING CODE 8120-08-P